DEPARTMENT OF ENERGY

Federal Energy Regulatory Commission

[Docket Nos. EC02-5-000, ER02-211-000, and EL02-53-000]

Vermont Yankee Nuclear Power Corporation, Entergy Nuclear Vermont Yankee, LLC, Vermont Yankee Nuclear Power Corporation; Notice of Initiation of Proceeding and Refund Effective Date

February 4, 2002.

Take notice that on February 1, 2002, the Commission issued an order in the above-indicated dockets initiating a proceeding in Docket No. EL02-53-000 under section 206 of the Federal Power Act.

The refund effective date in Docket No. EL02-53-000 will be 60 days after publication of this notice in the Federal Register.

Magalie R. Salas,
Secretary.

[FR Doc. 02-3066 Filed 2-7-02; 8:45 am]

BILLING CODE 6717-01-P